DEPARTMENT OF HEALTH AND HUMAN SERVICES

Centers for Disease Control and Prevention

Extension of Temporary Suspension of Dogs Entering the United States From Countries With a High Risk of Rabies

AGENCY: Centers for Disease Control and Prevention (CDC), Department of Health and Human Services (HHS).

ACTION: Notice.

SUMMARY: In order to protect the United States against the potential reintroduction of the dog-maintained rabies virus variant (DMRVV) into the United States, the Centers for Disease Control and Prevention (CDC), within the Department of Health and Human Services (HHS), announces an extension of the current temporary suspension of the importation into the United States of dogs from countries at high-risk for enzootic rabies (DMRVV high-risk countries). This suspension includes dogs that have been in any DMRVV high-risk countries during the previous six months.

DATES: The extension of the temporary suspension of the importation of dogs into the United States from DMRVV high-risk countries will be implemented on August 1, 2023, when the current suspension expires, and will remain in effect through July 31, 2024.

FOR FURTHER INFORMATION CONTACT: Ashley C. Altenburger, J.D., Division of Global Migration and Quarantine, Centers for Disease Control and Prevention, 1600 Clifton Road NE, MS H16-4, Atlanta, GA 30329. Telephone: 1-800-232-4636. For information regarding CDC regulations for the importation of dogs: Dr. Emily Pieracci, D.V.M., Division of Global Migration and Quarantine, Centers for Disease Control and Prevention, 1600 Clifton Road NE, MS H16-4, Atlanta, GA 30329. Telephone: 1-800-232-4636.

SUPPLEMENTARY INFORMATION: CDC is extending, but not modifying, the terms of the current temporary suspension of the importation into the United States of dogs from countries at high-risk for enzootic rabies (DMRVV high-risk countries), including dogs that have been in any DMRVV high-risk countries during the previous six months. A suspension remains necessary to protect the public's health against the reintroduction of the dog-maintained rabies virus variant (DMRVV) into the United States. There is a continued threat posed by dogs from DMRVV high-risk countries which are unvaccinated or inadequately vaccinated against rabies. This continued threat is due to various factors, including: a high volume of dogs being imported into the United States contemporaneous with insufficient veterinary controls in DMRVV high-risk countries to prevent the export of inadequately vaccinated dogs, inadequate global veterinary supply chains for vaccines and related materials, and persistent workforce capacity shortages, particularly in DMRVV high-risk countries that export dogs to the United States. CDC anticipates that these factors are likely to continue over the course of the next 12 months. Considering these factors, CDC has determined that it is necessary to extend the temporary suspension through July 31, 2024, to ensure dogs imported into the United States do not pose a public health threat of reintroducing DMRVV into the United States.¹

¹ In consideration of both the anticipated needs for global rabies vaccine campaigns to return to pre-pandemic levels and to avoid disruption to importers' and the travel industry's operations, CDC has determined that a one-year extension of the temporary suspension is required to protect the public's health and is therefore in the public's interest. In the absence of a further extension of the temporary suspension or the adoption of an alternate framework to mitigate the importation of dogs infected with rabies, dog importation requirements would return to procedures that proved inadequate to prevent the import of rabid dogs into the United States.

Additionally, CDC is publishing a proposed rule as a companion document, published elsewhere in this issue of the Federal Register, that outlines requirements regarding an importation system to reduce fraud and improve the U.S. government's ability to verify U.S. entry requirements and mitigate the introduction of dogs infected with rabies. If adopted, this proposed rule would mitigate the need for further extensions of the temporary suspension.

I. Background and Authority

Rabies is one of the deadliest zoonotic diseases and accounts for an estimated 59,000 human deaths globally each year.² This equates to one human death every nine minutes.³ DMRVV is responsible for 98 percent of these deaths.⁴ The rabies virus can infect any mammal and, once clinical signs appear, the disease is almost always fatal.⁵ In September 2007, at the Inaugural World Rabies Day Symposium, CDC declared the United States to be free of DMRVV.⁶ However, DMRVV is still a serious public health threat in the more than 100 countries where it remains enzootic. Preventing the entry of animals infected with DMRVV into the United States is a public health priority.

² World Health Organization (2018). WHO Expert Consultation on Rabies (WHO Technical Report Series 1012). Retrieved from https://www.who.int/publications/i/item/WHO-TRS-1012.

³ Id.

⁴ Hampson K, Coudeville L, Lembo T, et al.; Global Alliance for Rabies Control Partners for Rabies Prevention. Estimating the global burden of endemic canine rabies. PLoS Negl Trop Dis 2015;9:e0003709. https://doi.org/10.1371/journal.pntd.0003709.

⁵ Fooks, A.R., Banyard, A.C., Horton, D.L., Johnson, N., McElhinney, L.M., and Jackson, A.C. (2014) Current status of rabies and prospects for elimination. Lancet, 384(9951), 1389-1399. doi: 10.1016/S0140-6736(13)62707-5.

⁶ Velasco-Villa, A., Mauldin, M., Shi, M., Escobar, L., Gallardo-Romero, N., Damon, I., Emerson, G. (2017) The history of rabies in the Western Hemisphere. Antiviral Res, 146, 221-232. doi:10.1016/j.antiviral.2017.03.013.

Under section 361 of the Public Health Service Act (PHS Act) (42 U.S.C. 264), the Secretary of Health and Human Services may make and enforce such regulations as in the Secretary's judgment are necessary to prevent the introduction, transmission, or spread of communicable diseases from foreign countries into the United States and from one state or possession into any other state or possession.⁷ Such regulations may provide for inspection, fumigation, disinfection, sanitation, pest extermination, destruction of animals or articles found to be sources of dangerous infection to human beings, and other measures. Under section 362 of the PHS Act (42 U.S.C. 265), the Secretary, and by delegation the Director of CDC (CDC Director),⁸ may prohibit entries and imports from foreign countries into the United States “in whole or in part” if there is a serious risk of introducing communicable disease and when required in the interest of public health.

⁷ Although the statute assigns authority to the Surgeon General, all statutory powers and functions of the Surgeon General were transferred to the Secretary of HHS in 1966, 31 FR 8855, 80 Stat. 1610 (June 25, 1966), see also Public Law 96-88, 509(b), October 17, 1979, 93 Stat. 695 (codified at 20 U.S.C. 3508(b)). The Secretary has retained these authorities despite the reestablishment of the Office of the Surgeon General in 1987.

⁸ See 42 CFR 71.51(e), 71.63.

Under 42 CFR 71.51, all dogs admitted into the United States must be accompanied by a valid rabies vaccination certificate,⁹ unless the dogs' owners or importers submit satisfactory evidence that dogs under six months of age have not been in a DMRVV high-risk country or dogs older than six months have not been in a DMRVV high-risk country during the six months prior to arrival.¹⁰ CDC maintains a publicly available list of DMRVV high-risk countries ¹¹ and provides guidance for dog entry requirements based on the dog's country of origin.

⁹ Centers for Disease Control and Prevention (2022). What is a valid rabies vaccination certificate? Retrieved from https://www.cdc.gov/importation/bringing-an-animal-into-the-united-states/vaccine-certificate.html.

¹⁰ Centers for Disease Control and Prevention (2019). Guidance Regarding Agency Interpretation of “Rabies-Free” as It Relates to the Importation of Dogs Into the United States. Federal Register, Vol. 84,724-730. Retrieved from https://www.federalregister.gov/documents/2019/01/31/2019-00506/guidance-regarding-agency-interpretation-of-rabies-free-as-it-relates-to-the-importation-of-dogs.

¹¹ Centers for Disease Control and Prevention (2022). What is a valid rabies vaccination certificate? Retrieved from https://www.cdc.gov/importation/bringing-an-animal-into-the-united-states/rabies-vaccine.html.

CDC subject matter experts review publicly available data and conduct an annual assessment to determine which countries have high risk of DMRVV.¹² This assessment considers the following factors: presence or prevalence of domestically acquired cases of DMRVV in humans and animals; efforts towards control of DMRVV in dogs (such as dog vaccination coverage, dog population management, and existence and enforcement of legal codes to limit rabies transmission in dogs); and the quality of rabies surveillance systems, rate of testing, and laboratory capacity. If data are not available, the country is not considered to have a robust rabies control program. If a country has provided additional substantial data to support a DMRVV-free or DMRVV low-risk status, CDC can review that information and reassess the country's status.

¹² Henry RE, Blanton JD, Angelo KM, Pieracci EG, Stauffer K, Jentes ES, Allen J, Glynn M, Brown CM, Friedman CR, Wallace R. A country classification system to inform rabies prevention guidelines and regulations. J Travel Med. 2022 Jul 14;29(4):taac046. doi: 10.1093/jtm/taac046. PMID: 35348741.

Under 42 CFR 71.51(e), dogs may be subject to “additional requirements as may be deemed necessary” or “exclusion if coming from areas which the [CDC] Director has determined to have high rates of rabies.” Based on the previously described criteria, CDC determined that DMRVV high-risk countries constitute areas that have high rates of DMRVV, and dogs imported from these countries are thus subject to additional requirements and/or exclusion.¹³

¹³ Id.

Under 42 CFR 71.63, CDC may also temporarily suspend the entry of animals, articles, or things from designated foreign countries and places into the United States when it determines there exists in a foreign country a communicable disease that threatens the public health of the United States and the entry of imports from that country increases the risk that the communicable disease may be introduced. When such a suspension is issued, CDC designates the period of time or conditions under which imports into the United States are suspended. CDC likewise determined that DMRVV exists in countries designated as DMRVV high-risk countries and that, if reintroduced into the United States, DMRVV would threaten the public health of the United States.

Pursuant to these legal authorities and determinations made thereunder, on June 16, 2021, CDC announced a temporary suspension of the importation of dogs from DMRVV high-risk countries into the United States to protect the public health against the reintroduction of DMRVV into the United States (the temporary suspension).¹⁴ The temporary suspension went into effect on July 14, 2021.

¹⁴ Temporary Suspension of Dogs Entering the United States from High-Risk Rabies Countries. Federal Register, 86 FR 32041, June 16, 2021.

CDC found that the temporary suspension prohibiting the importation of dogs from DMRVV high-risk countries for rabies was especially necessary due to the diversion of public health resources to respond to the COVID-19 pandemic. The limited availability of public health resources due to the unprecedented global response to the COVID-19 pandemic resulted in reduced capacity at the Federal, state, and local levels to address the increased risk of the reintroduction of DMRVV. Despite a decrease in international travel volumes due to the global COVID-19 pandemic, CDC noted an increase in importers circumventing dog import regulations—there was a 52 percent increase in dogs ineligible for entry in 2020 as compared to 2018 and 2019. Additionally, four rabid dogs were imported into the United States between 2015 and 2021. For these reasons, CDC implemented the temporary suspension in July 2021. In addition, CDC implemented a CDC Dog Import Permit ¹⁵ during the temporary suspension to verify the documentation of imported dogs before they are flown to the United States.

¹⁵ Approved under OMB Control Number 0920-1383 Importation Regulations (42 CFR 71 Subpart F) (exp. 1/31/2026, or as revised).

Since the temporary suspension first went into effect in July 2021, CDC has modified the terms of the suspension to allow for more dog imports as the public health situation has gradually improved and as more public health resources have become available globally. On June 1, 2022, CDC announced a modified and extended temporary suspension, effective June 10, 2022 through January 31, 2023.¹⁶ The extension and modification of the temporary suspension permitted all categories of importers to import dogs from DMRVV high-risk countries, while requiring commercially imported dogs to enter the United States at a port of entry with a CDC-approved animal care facility with a Facilities Information and Resource Management System (FIRMS) code issued by U.S. Customs and Border Protection (CBP).¹⁷ CDC also expanded the list of the approved ports of entry to include 18 airports ¹⁸ with a CDC quarantine station for importers with a valid U.S.-issued rabies vaccination certificate or a CDC Dog Import Permit. On January 27, 2023, CDC announced an extension of the temporary suspension through July 31, 2023, without modifications.¹⁹ The extension took effect February 1, 2023, and continues to allow dogs from DMRVV high-risk countries to enter the United States under one of the options outlined in the June 10, 2022, extension.

¹⁶ Id.

¹⁷ Centers for Disease Control and Prevention (2023). CDC Approved Animal Care Facilities. Retrieved from https://www.cdc.gov/importation/bringing-an-animal-into-the-united-states/approved-care-facilities.html.

¹⁸ The 18 approved ports of entry are: Anchorage (ANC), Atlanta (ATL), Boston (BOS), Chicago (ORD), Dallas (DFW), Detroit (DTW), Honolulu (HNL), Houston (IAH), Los Angeles (LAX), Miami (MIA), Minneapolis (MSP), New York (JFK), Newark (EWR), Philadelphia (PHL), San Francisco (SFO), San Juan (SJU), Seattle (SEA), and Washington DC (IAD).

¹⁹ 88 FR 5348 (Jan. 27, 2023).

At this time, CDC is extending the temporary suspension through July 31, 2024, because of the continued risk for the reintroduction of DMRVV into the United States. This extension is based on the increasing number of dogs being purchased internationally,20 21 22 23 often from DMRVV high-risk countries, and imported into the United States and other rabies-free countries. This increase in international purchases of dogs is occurring contemporaneous with a high volume of dogs being imported into the United States and continued disruptions to rabies vaccination campaigns globally as a lingering effect of the diversion of public health resources during the COVID-19 pandemic. The rate of rabies in imported dogs is higher than the rate of domestically acquired rabies in dogs. Disruptions to rabies vaccination campaigns globally further elevate that risk, and CDC anticipates it will take at least two years, and possibly longer, for global vaccination campaigns to recover to pre-pandemic levels. This timeframe is based on modeling data which suggest that when rabies vaccination coverage is disrupted in rabies-free countries and cases begin occurring, countries can prevent reestablishment of the disease in as little as 2 years if 38-56% of the dog population is vaccinated annually.²⁴ Additionally, constraints on the global veterinary workforce capacity and global veterinary supply chain shortages have led to delayed or disrupted care for dogs, which also increases the likelihood dogs imported into the United States may pose a public health risk.25 26 27 28 29 30

²⁰ Pieracci, E., Williams, C., Wallace, R., Kalapura, C., Brown, C. U.S. dog importations during the COVID-19 pandemic: Do we have an erupting problem? PLoS ONE,16(9), e0254287. doi: 10.1371/journal.pone.0254287.

²¹ Wynne E. Dog lovers find prices rise steeply amid COVID-fueled demand. Australian Broadcasting Corporation News. 20 May 2021.

²² Morgan L, Protopopova A, Birkler RID, Itin-Shwatz B, Sutton G, Gamliel A, et al. Human-dog relationships during the COVID-19 pandemic: booming dog adoption during social isolation. Humanities and Social Science Communications. 2021; 7(150): 1-11.

²³ British Broadcasting Corporation. Illegal puppy trade warning as sales boom during the COVID pandemic. 18 NOV 2020. British Broadcasting Corporation News.

²⁴ Jeon, S., Cleaton, J., Meltzer, M., Kahn, E., Pieracci, E., Blanton, J., Wallace, R. (2019). Determining the post-elimination level of vaccination needed to prevent re-establishment of dog rabies. PLoS Neglected Tropical Diseases, 13(12). https://doi.org/10.1371/journal.pntd.0007869.

²⁵ Zhang S. The great veterinary shortage. The Atlantic. July 6, 2022. https://www.theatlantic.com/health/archive/2022/07/not-enough-veterinarians-animals/661497/.

²⁶ Martin D. Is the veterinarian shortage real or regional? AGCanada.com July 16, 2021. https://www.agcanada.com/2021/07/is-the-veterinarian-shortage-real-or-regional.

²⁷ The Business Research Company. Companion animal veterinary vaccines global market report 2023 (. . .). https://www.thebusinessresearchcompany.com/report/companion-animal-veterinary-vaccines-global-market-report.

²⁸ Lewin R. Aussie dog owners warned of national vaccine shortage as deadly bacterial disease spreads. 7 News.com.au. October 17, 2022. https://7news.com.au/lifestyle/pets/aussie-dog-owners-warned-of-national-vaccine-shortage-as-deadly-bacterial-disease-spreads-c-8568550.

²⁹ Mathew R. Vaccine Shortage, Excess Workload of Vets Hamper Anti-rabies Vaccination Programme. Manorama. September 24, 2022. https://www.onmanorama.com/news/kerala/2022/09/24/kerala-anti-rabbies-vaccination-programme.html.

³⁰ Rabies is Likely to Spread in Sri Lanka in 2023 due to Vaccine Shortages. Business Standard. January 4, 2023. https://www.business-standard.com/article/international/rabies-is-likely-to-spread-in-sri-lanka-in-2023-due-to-vaccine-shortages-123010400640_1.html.

CDC will continue to review and reassess its list of DMRVV high-risk countries annually and as additional substantial data become available.³¹ Such reviews are consistent with CDC practices. In conducting this review, CDC will consider DMRVV high-risk countries' rabies control programs, the latest scientific data, and international recommendations for rabies control. For example, in January 2023, CDC reviewed the list of DMRVV high-risk rabies countries and determined that Brunei and Bhutan had documented sufficient levels of canine rabies surveillance, canine vaccination, and laboratory testing over a multi-year timespan and demonstrated success in controlling DMRVV within their respective countries; as a result of this review Brunei and Bhutan were removed from the CDC list of DMRVV high-risk countries.

³¹ The web page that describes how CDC conducts the annual assessment of individual countries' rabies status worldwide is available at https://www.cdc.gov/rabies/resources/countries-risk.html.

II. Public Health Rationale

A. Dog Importation Into the United States

The United States was declared DMRVV-free in 2007. Importing dogs from countries at high-risk for rabies involves a significant public health risk. The importation of just one dog infected with DMRVV risks re-introduction of the virus into the United States; such a public health threat could result in loss of human and animal life and consequential economic impact.32 33 34 Of additional concern is the fact that DMRVV has been highly successful at adapting to new host species, particularly wildlife. One imported DMRVV-infected dog could result in a new variant with potential to become established within new host species in the United States.³⁵

³² World Bank (2012). People, Pathogens and Our Planet: The Economics of One Health. Retrieved from https://openknowledge.worldbank.org/handle/10986/11892.

³³ Raybern, C., Zaldivar, A., Tubach, S., Ahmed, F., Moore, S., Kintner, C., Garrison, I. (2020) Rabies in a dog imported from Egypt-Kansas, 2019. Morbidity and Mortality Weekly Report, 69(38), 1374-1377. Retrieved from https://www.cdc.gov/mmwr/volumes/69/wr/pdfs/mm6938a5-H.pdf.

³⁴ Jeon, S., Cleaton, J., Meltzer, M., Kahn, E., Pieracci, E., Blanton, J., Wallace, R. (2019). Determining the post-elimination level of vaccination needed to prevent re-establishment of dog rabies. PLoS Neglected Tropical Diseases, 13(12). https://doi.org/10.1371/journal.pntd.0007869.

³⁵ Velasco-Villa, A., Mauldin, M., Shi, M., Escobar, L., Gallardo-Romero, N., Damon, I., Emerson, G. (2017) The history of rabies in the Western Hemisphere. Antiviral Res, 146, 221-232. doi:10.1016/j.antiviral.2017.03.013.

Although the U.S. Government does not track the total number of dogs imported each year, it is estimated that approximately 1 million dogs are imported into the United States annually, of which 100,000 dogs are from DMRVV high-risk countries.³⁶ This estimate was based on information provided by airlines, CBP staff, and a study conducted at a U.S.-Mexico land border crossing.³⁷ Combined import data from CDC, CBP, and the U.S. Department of Agriculture (USDA) suggest that adoptions, rescues, purchases, and international movement of dogs from overseas have remained high since 2018.38 39 40 Demand for puppies and dogs imported for rescue, adoption, or resale has remained high since 2021.41 42 43 44 In light of the higher rate of rabies among imported dogs compared to dogs in the United States, the continued high volume of importations of dogs to the United States, and the contemporaneous insufficient veterinary controls, inadequate veterinary supply chains, and persistent workforce capacity shortages in DMRVV high-risk countries, the risk of rabies importation into the United States and re-introduction of DMRVV remains heightened.

³⁶ Centers for Disease Control and Prevention (2019). Guidance Regarding Agency Interpretation of “Rabies-Free” as It Relates to the Importation of Dogs Into the United States. Federal Register, Vol. 84,724-730. Retrieved from https://www.federalregister.gov/documents/2019/01/31/2019-00506/guidance-regarding-agency-interpretation-of-rabies-free-as-it-relates-to-the-importation-of-dogs.

³⁷ McQuiston, J.H., Wilson, T., Harris, S., Bacon, R.M., Shapiro, S., Trevino, J., Marano, N. (2008.) Importation of dogs into the United States: risks from rabies and other zoonotic diseases. Zoonoses Public Health, 55(8-10),421-6. doi:10.1111/j.1863-2378.2008.01117.

³⁸ Better Business Bureau. Online puppy scams rising sharply in 2020, BBB warns. 2020 December 2. Available from: https://www.bbb.org/article/news-releases/23354-bbb-studyupdate-puppy-scams-rising-in-2020.

³⁹ Centers for Disease Control and Prevention. Internal dog import data. August 2021-May 2023.

⁴⁰ U.S. Customs and Border Protection. Live animal imports FY 2022 report to congress. Nov 4, 2022.

⁴¹ Pieracci, E., Williams, C., Wallace, R., Kalapura, C., Brown, C. U.S. dog importations during the COVID-19 pandemic: Do we have an erupting problem? PLoS ONE,16(9), e0254287. doi: 10.1371/journal.pone.0254287.

⁴² Wynne E. Dog lovers find prices rise steeply amid COVID-fueled demand. Australian Broadcasting Corporation News. 20 May 2021.

⁴³ Morgan L, Protopopova A, Birkler RID, Itin-Shwatz B, Sutton G, Gamliel A, et al. Human-dog relationships during the COVID-19 pandemic: booming dog adoption during social isolation. Humanities and Social Science Communications. 2021; 7(150): 1-11.

⁴⁴ British Broadcasting Corporation. Illegal puppy trade warning as sales boom during the COVID pandemic. 18 NOV 2020. British Broadcasting Corporation News.

The rate of rabies is 14 times higher in imported dogs when compared to the rate of rabies acquired domestically by dogs in the United States.45 46 47 48 49 50 51 52 During 2015-2021 there were approximately 700,000 dogs imported from DMRVV high-risk countries of which four were found to have rabies upon entry into the United States—an annual incidence rate of 5.7 per 1 million dogs imported. In comparison, there were an estimated cumulative 616 million dogs in the United States during that same time period,⁵³ of which approximately 240 were found infected with an endemic wildlife variant of rabies during the same time—an annual incidence rate of 0.4 per 1 million.

⁴⁵ Centers for Disease Control and Prevention. Guidance regarding agency interpretation of “rabies-free” as it relates to the importation of dogs into the United States. Federal Register Notice; 84 FR 724: 724-30. January 31, 2019. Available at: http://www.federalregister.gov/documents/2019/01/31/2019-00506/guidance-regarding-agency-interpretation-of-rabies-free-as-it-relates-to-the-importation-of-dogs.

⁴⁶ Ma X, Bonaparte S, Toro M, Orciari L, Gigante C, et al. Rabies surveillance in the United States during 2020. Journal of the American Veterinary Medical Association. 2022; 260 (10).

⁴⁷ Birhane M, Cleaton J, Monroe BP, Wadhwa A, et al. Rabies surveillance in the United States during 2015. Journal of the American Veterinary Medical Association. 2017; 250 (10).

⁴⁸ Ma X, Monroe BP, Cleaton J, Orciari L, Yager P, et al. Rabies surveillance in the United States during 2016. Journal of the American Veterinary Medical Association. 2018; 252 (8).

⁴⁹ Ma X, Monroe BP, Cleaton J, Orciari L, Yu L, et al. Rabies surveillance in the United States during 2017. Journal of the American Veterinary Medical Association. 2018; 253 (12).

⁵⁰ Ma X, Monroe BP, Wallace R, Orciari L, Gigante C, et al. Rabies surveillance in the United States during 2019. Journal of the American Veterinary Medical Association. 2021; 258 (11).

⁵¹ Ma X, Bonaparte S, Corbett P, Orciari L, Gigante C, et al. Rabies surveillance in the United States during 2021. Journal of the American Veterinary Medical Association. 2023. DOI: https://doi.org/10.2460/javma.23.02.0081.

⁵² Ma X, Monroe BP, Cleaton J, Orciari L, Gigante C, et al. Public veterinary medicine: Public health: Rabies surveillance in the United States during 2018. Journal of the American Veterinary Medical Association. 2020; 256 (2).

⁵³ American Veterinary Medical Association. U.S. pet statistics. Available at: ebusiness.avma.org/files/ProductDownloads/eco-pet-demographic-report-22-low-res.pdf.

All four rabid dogs imported into the United States during the 2015-2021 period were imported by rescue organizations for the purposes of adoption. These four cases, discussed below, highlight the immense public health resources required to investigate, respond to, and mitigate the public health threat posed by the importation of a rabid dog.

In 2015, a rabid dog was part of a group of eight dogs and 27 cats imported from Egypt by a rescue group. The dog had an unhealed leg fracture and began showing signs of rabies four days after arrival. Following the rabies diagnosis, the rescue workers in Egypt admitted that the dog's rabies vaccination certificate had been intentionally falsified to evade CDC entry requirements.⁵⁴ Eighteen people were recommended to receive rabies post-exposure prophylaxis (PEP), seven dogs underwent a six-month quarantine, and eight additional dogs housed in the same home as the rabid dog had to receive rabies booster vaccinations and undergo a 45-day monitoring period.

⁵⁴ Sinclair J., Wallace, R., Gruszynski K., Bibbs Freeman, M., Campbell, C., Semple, S., Murphy, J. (2015). Rabies in a dog imported from Egypt with a falsified rabies vaccination certificate—Virginia. Morbidity and Mortality Weekly Report, 64, 1359-62. doi:10.15585/mmwr.mm6449a2.

In 2017, a “flight parent” (a person typically solicited through social media, often not affiliated with the rescue organization, and usually compensated with an airline ticket) imported four dogs on behalf of a rescue organization. One of the dogs appeared agitated at the airport and bit the flight parent prior to the flight. A U.S. veterinarian examined the dog one day after its arrival and then euthanized and tested the dog for rabies. A post-mortem rabies test showed that the dog was positive for the virus. Public health officials recommended that at least four people receive rabies PEP, and the remaining three dogs underwent quarantine periods ranging from 30 days to six months. An investigation revealed the possibility of falsified rabies vaccination documentation presented on entry to the United States.⁵⁵

⁵⁵ Hercules, Y., Bryant, N., Wallace, R., Nelson, R., Palumbo, G., Williams, J., Brown, C. (2018). Rabies in a dog imported from Egypt—Connecticut, 2017. Morbidity and Mortality Weekly Report 67, 1388-91. doi:10.15585/mmwr.mm6750a3.

In 2019, a rescue group imported 26 dogs, all of which had rabies vaccination certificates and serologic documentation indicating the development of rabies antibodies in response to immunization, based on results from an Egyptian Government-affiliated rabies laboratory. However, one dog developed signs of rabies three weeks after arrival and had to be euthanized. The dog tested positive for rabies. As a result, forty-four people received rabies PEP and the 25 dogs imported on the same flight underwent re-vaccination and quarantines of four to six months. An additional 12 dogs had contact with the rabid dog and had to be re-vaccinated and undergo quarantine periods ranging from 45 days to six months based on their previous vaccination status.⁵⁶ The public health investigations and rabies PEP of exposed persons in this case cost more than $400,000 in state resources.57 58

⁵⁶ Raybern, C., Zaldivar, A., Tubach, S., Ahmed, F., Moore, S., Kintner, C., Garrison, I. (2020) Rabies in a dog imported from Egypt-Kansas, 2019. Morbidity and Mortality Weekly Report, 69(38), 1374-1377. Retrieved from https://www.cdc.gov/mmwr/volumes/69/wr/pdfs/mm6938a5-H.pdf.

⁵⁷ Id.

⁵⁸ Centers for Disease Control and Prevention (2022). Rabies Postexposure Prophylaxis. Retrieved from https://www.cdc.gov/rabies/medical_care/index.html.

On June 10, 2021, shortly before CDC published the temporary suspension, 33 dogs were imported into the United States from Azerbaijan by a rescue organization. All dogs had rabies vaccination certificates that appeared valid upon arrival in the United States. One dog developed signs of rabies three days after arrival and was euthanized. CDC confirmed the dog was infected with a variant of DMRVV known to circulate in the Caucus Mountain region of Azerbaijan. The remaining rescue animals exposed to the rabid dog during travel were dispersed across nine states, leading to what is believed to be the largest, multi-state investigation of imported rabid dogs in U.S. history.⁵⁹ Eighteen people received PEP to prevent rabies as a result of exposure to this one rabid dog. Post-vaccination serologic monitoring of the remaining dogs and the public health investigation revealed that improper vaccination practices by the veterinarian in Azerbaijan likely contributed to the inadequate vaccination response documented in 48 percent of the imported animals, including the rabid dog.⁶⁰ The 33 exposed animals were placed in quarantine periods ranging from 45 days to six months based on individual serologic titer test results and local jurisdictional requirements.⁶¹

⁵⁹ Whitehill F, Bonaparte S, Hartloge C, et al. Rabies in a Dog Imported from Azerbaijan- Pennsylvania, 2021. MMWR Morb Mortal Wkly Rep 2022; 71: 686-689.

⁶⁰ Centers for Disease Control and Prevention (2021). CDC responds to a case of rabies in an imported dog. Retrieved from https://www.cdc.gov/worldrabiesday/disease-detectives/rabies-imported-dog.html.

⁶¹ Whitehill F, Bonaparte S, Hartloge C, et al. Rabies in a Dog Imported from Azerbaijan- Pennsylvania, 2021. MMWR Morb Mortal Wkly Rep 2022; 71: 686-689.

CDC estimates that costs for public health investigations and subsequent cost of care for people exposed to rabid dogs range from $220,897 to $521,828 per importation event, as summarized in an economic analysis found on CDC's website.62 63 64 This cost estimate does not account for the worst-case outcomes, which include: (1) transmission of rabies to a person who dies from the disease; and (2) ongoing transmission to other domestic animals and wildlife species in the United States. The U.S. National Rabies Control Program was started in 1944 and required decades of consistent dog vaccination and animal control programs to eliminate DMRVV from the United States. While the cost has never been published it is estimated to approach 1 billion USD in direct rabies control costs.⁶⁵

⁶² Raybern, C., Zaldivar, A., Tubach, S., Ahmed, F., Moore, S., Kintner, C., Garrison, I. (2020) Rabies in a dog imported from Egypt-Kansas, 2019. MMWR Morb Mort Wkly Rep, 69(38), 1374-1377. Retrieved from https://www.cdc.gov/mmwr/volumes/69/wr/pdfs/mm6938a5-H.pdf.

⁶³ Centers for Disease Control and Prevention (2019). Guidance Regarding Agency Interpretation of “Rabies-Free” as It Relates to the Importation of Dogs Into the United States. Federal Register, Vol. 84,724-730. Retrieved from https://www.federalregister.gov/documents/2019/01/31/2019-00506/guidance-regarding-agency-interpretation-of-rabies-free-as-it-relates-to-the-importation-of-dogs.

⁶⁴ Centers for Disease Control and Prevention (2023). What is a Valid Rabies Vaccination Certificate? Retrieved from https://www.cdc.gov/importation/bringing-an-animal-into-the-united-states/vaccine-certificate.html.

⁶⁵ Based on assessments made by CDC Rabies Subject Matter Experts from annual operating costs to fund the U.S. national rabies control program including dog vaccination and post exposure prophylaxis costs.

Re-establishment of DMRVV in the United States would result in costly, years' long efforts to eliminate the virus again. The extraordinary cost of re-introduction of DMRVV is demonstrated by an instance of reintroduction that occurred in Texas, where DMRVV had been previously eliminated. The reintroduction lasted from 1995-2003 and resulted in several human deaths; the subsequent re-elimination of DMRVV cost $60 million (in 2022 USD) and required over 10 years of effort.66 67

⁶⁶ Thomas, S., Wilson, P., Moore, G., Oertli, E., Hicks, B., Rohde, R., Johnston, D. (2005). Evaluation of oral rabies vaccination programs for control of rabies epizootics in coyotes and gray foxes: 1995-2003. Journal of the American Veterinary Medicine Association, 227(5),785-92. doi: 10.2460/javma.2005.227.785.

⁶⁷ Sterner, R., Meltzer, M., Shwiff, S., Slate, D. (2009). Tactics and Economics of Wildlife Oral Rabies Vaccination, Canada and the United States. Emerging Infectious Diseases, 15(8), 1176-1184. doi: 10.3201/eid1508.081061.

B. Insufficient Canine Vaccination Rates and Veterinary Controls in DMRVV High-Risk Countries To Prevent the Export of Inadequately Vaccinated Dogs

Historically, approximately 60 to 70 percent of CDC's dog entry denials (or about 200 cases annually) have been based on fraudulent, incomplete, or inaccurate paperwork.⁶⁸ This number is less than one percent of dog importations. However, between January 2020 and July 2021 (i.e., during the COVID-19 pandemic, prior to the temporary suspension taking effect), CDC documented more than 1000 instances of incomplete, inadequate, or fraudulent rabies vaccination certificates for dogs arriving from DMRVV high-risk countries.⁶⁹ These cases resulted in dogs being denied entry into the United States and ultimately returned to their country of origin.

⁶⁸ Centers for Disease Control and Prevention (2021). Quarantine Activity Reporting System (version 4.9.8.8.2.2A). Dog Importation data, 2010-2019. Accessed 1 October 2022.

⁶⁹ Pieracci, E., Williams, C., Wallace, R., Kalapura, C., Brown, C. U.S. dog importations during the COVID-19 pandemic: Do we have an erupting problem? PLoS ONE,16(9), e0254287. doi: 10.1371/journal.pone.0254287.

The significant increase in the number of dogs from DMRVV high-risk countries arriving with incomplete, inadequate, or fraudulent rabies vaccination certificates observed in 2020 and 2021 coincided with increased interest in purchasing dogs from the international rescues and breeders during the COVID-19 pandemic.70 71 72 One study noted a global increase in internet searches on Google regarding dog adoption during the pandemic.⁷³ Since 2021, the demand for puppies and rescue dogs has remained high. The trend in purchasing and rescuing dogs from abroad has been noted in many countries, including the United States.74 75 76 77 Internationally, there has been significant growth within the companion animal breeding industry with increasing international trade.⁷⁸ Multiple international and U.S. investigations have identified importations of puppies that were too young to meet rabies vaccination requirements.79 80 81 82 There is growing evidence that criminal networks are becoming involved in the lucrative dog trade, and illegal puppy trade was reported to have increased during the pandemic.83 84 85

⁷⁰ Pieracci, E., Williams, C., Wallace, R., Kalapura, C., Brown, C. U.S. dog importations during the COVID-19 pandemic: Do we have an erupting problem? PLoS ONE,16(9), e0254287. doi: 10.1371/journal.pone.0254287.

⁷¹ Wynne E. Dog lovers find prices rise steeply amid COVID-fueled demand. Australian Broadcasting Corporation News. 20 May 2021.

⁷² Morgan L, Protopopova A, Birkler RID, Itin-Shwatz B, Sutton G, Gamliel A, et al. Human-dog relationships during the COVID-19 pandemic: booming dog adoption during social isolation. Humanities and Social Science Communications. 2021; 7(150): 1-11.

⁷³ Id.

⁷⁴ Pieracci, E., Williams, C., Wallace, R., Kalapura, C., Brown, C. U.S. dog importations during the COVID-19 pandemic: Do we have an erupting problem? PLoS ONE,16(9), e0254287. doi: 10.1371/journal.pone.0254287.

⁷⁵ Wynne E. Dog lovers find prices rise steeply amid COVID-fueled demand. Australian Broadcasting Corporation News. 20 May 2021.

⁷⁶ Morgan L, Protopopova A, Birkler RID, Itin-Shwatz B, Sutton G, Gamliel A, et al. Human-dog relationships during the COVID-19 pandemic: booming dog adoption during social isolation. Humanities and Social Science Communications. 2021; 7(150): 1-11.

⁷⁷ Velez M. I adopted my dog Cannoli from overseas. It's easier than you think. 9/20/2020. Available at: https://www.thedailybeast.com/i-adopted-my-dog-cannoli-from-overseas-its-easier-than-you-think.

⁷⁸ Maher J, Wyatt T. European illegal puppy trade and organized crime. Trends in Organized Crime. 2021; 24(4) 506-525.

⁷⁹ Pieracci, E., Williams, C., Wallace, R., Kalapura, C., Brown, C. U.S. dog importations during the COVID-19 pandemic: Do we have an erupting problem? PLoS ONE,16(9), e0254287. doi: 10.1371/journal.pone.0254287.

⁸⁰ Zucca P, Rossman MC, Osorio JE, Karem K, De Benedictis P, Haifsl J, et al. The `bio-crime model' of cross-border cooperation among veterinary public health, justice, law enforcements, and customs to tackle the illegal animal trade/bio-terrorism and to prevent the spread of zoonotic diseases among human population. Frontiers in Veterinary Science. 2020; 7: 1-13.

⁸¹ Cocchi M, Danesi P, DeZan G, Leati M, Gagliazzo L, et al. A three-year biocrime sanitary surveillance on illegally imported companion animals. Pathogens. 2021; 10(80):1-12.

⁸² Houle MK. Perspective from the field: Illegal puppy imports uncovered at JFK airport. 2017. Available at: www.cdc.gov/ncezid/dgmq/feature-stories/operation-dog-catcher.html.

⁸³ Maher J, Wyatt T. Rural-urban dynamics in the UK illegal puppy trade: trafficking and trade in man's best friend. International Journal of Rural Law and Policy. 2019; 9 (2): 1-20.

⁸⁴ Zucca P, Rossman MC, Osorio JE, Karem K, De Benedictis P, Haifsl J, et al. The `bio-crime model' of cross-border cooperation among veterinary public health, justice, law enforcements, and customs to tackle the illegal animal trade/bio-terrorism and to prevent the spread of zoonotic diseases among human population. Frontiers in Veterinary Science. 2020; 7: 1-13.

⁸⁵ British Broadcasting Corporation. Illegal puppy trade warning as sales boom during the COVID pandemic. 18 NOV 2020. British Broadcasting Corporation News.

Additionally, reports of international movement of animals with missing microchips, no proof of rabies vaccination, or underage dogs with fraudulent vaccination records have been documented in the United States and abroad.86 87 The increases in international dog movement and fraudulent or questionable paperwork have raised concerns among state and local animal and health departments, breeders and dog organizations, and veterinary associations. A rabies serological (antibody) titer is an estimation of an immune response against rabies virus (either through exposure or vaccination). While there is no “protective” titer against rabies virus, survival against rabies virus infection is often more likely to occur the higher the animal's titer at the time of infection.⁸⁸ The World Organisation for Animal Health considers a level of 0.5 IU/mL a “passing” antibody titer level.

⁸⁶ Pieracci, E., Williams, C., Wallace, R., Kalapura, C., Brown, C. U.S. dog importations during the COVID-19 pandemic: Do we have an erupting problem? PLoS ONE,16(9), e0254287. doi: 10.1371/journal.pone.0254287.

⁸⁷ Zucca P, Rossman MC, Osorio JE, Karem K, De Benedictis P, Haifsl J, et al. The `bio-crime model' of cross-border cooperation among veterinary public health, justice, law enforcements, and customs to tackle the illegal animal trade/bio-terrorism and to prevent the spread of zoonotic diseases among human population. Frontiers in Veterinary Science. 2020; 7: 1-13.

⁸⁸ CDC. Rabies Serology. Available at: www.cdc.gov/rabies/specific_groups/hcp/serology.html#What%20Does%20A%20Rabies%20Virus%20Titer%20Mean?

A 2015 study found that 53% of imported rescue dogs arriving in Norway with rabies vaccinations administered at least 21 days before arrival had titers less than 0.5 IU/mL.⁸⁹ Nineteen percent of dogs in the study had titers less than 0.1 IU/mL, “raising concerns as to whether they had been vaccinated against rabies at all.” ⁹⁰ Two rabid dog importation events in the United States were also extensively evaluated, including serological evaluation of all dogs that were transported together. In these two events, one in 2019 and one in 2021, 44% (25 of 57) of dogs failed to mount an anamnestic response to booster vaccination; an indication that they were unvaccinated or inappropriately vaccinated prior to arrival in the US.91 92

⁸⁹ Klevar S, Hogasen HR, Davidson RK, Hammes IS, Treiberg Berndtsson L, LundA. Cross-border transport of rescue dogs may spread rabies in Europe. The Veterinary Record. 2015; 176 (26): 672.

⁹⁰ Id.

⁹¹ Raybern, C., Zaldivar, A., Tubach, S., Ahmed, F., Moore, S., Kintner, C., Garrison, I. (2020) Rabies in a dog imported from Egypt-Kansas, 2019. Morbidity and Mortality Weekly Report, 69(38), 1374-1377. Retrieved from https://www.cdc.gov/mmwr/volumes/69/wr/pdfs/mm6938a5-H.pdf.

⁹² Whitehill F, Bonaparte S, Hartloge C, et al. Rabies in a Dog Imported from Azerbaijan- Pennsylvania, 2021. MMWR Morb Mortal Wkly Rep 2022; 71: 686-689.

During the COVID-19 pandemic, canine rabies vaccination campaigns were suspended in many DMRVV high-risk countries, which resulted in an increase in canine and human rabies cases.93 94 The pause in canine vaccination campaigns and the delay in re-establishing pre-COVID rabies vaccination rates in dogs in many DMRVV high-risk countries, combined with insufficient veterinary controls to prevent or eliminate DMRVV within a country,⁹⁵ as well as prevent the exportation of inadequately vaccinated dogs with fraudulent paperwork, presents an ongoing and significant public health risk.

⁹³ Kunkel, A., Jeon, S., Joseph, H., Dilius, P., Crowdis, K., Meltzer, M., Wallace, R. (2021). The urgency of resuming disrupted dog rabies vaccination campaigns: a modeling and cost-effectiveness analysis. Scientific Reports, 11, 12476. doi:10.1038/s41598-021-92067-5.

⁹⁴ Raynor, B., Díaz, E,, Shinnick, J., Zegarra, E., Monroy, Y., Mena. C., . . . Castillo-Neyra, R.(2021). The impact of the COVID-19 pandemic on rabies reemergence in Latin America: The case of Arequipa, Peru. PLoS Neglected Tropical Diseases, 15(5), e0009414. doi:10.1371/journal.pntd.0009414.

⁹⁵ WHO Expert Consultation on Rabies, third report. Geneva: World Health Organization; 2018 (WHO Technical Report Series, No. 1012). License: CC BY-NC-SA 3.0 IGO.

A survey of global, regional, national, and local partners from the network of the United Against Rabies Forum ⁹⁶ and rabies practitioners found that the global COVID-19 pandemic impacted rabies control efforts in many DMRVV high-risk countries during 2020. The study authors reported that dog vaccinations were administered as planned in just four percent of the countries for which data were available. Around half of respondents reported that funds for rabies control were diverted to COVID-19 activities. Among respondents who reported diversion of rabies control funds to COVID-19 responses, they reported that animal rabies vaccines and dog vaccination campaigns were often the first rabies control activities to be cut.⁹⁷

⁹⁶ A forum supported by the Food and Agriculture Organization of the United Nations, the World Organisation for Animal Health, and the World Health Organization (the Tripartite), which takes a multi-sectoral, One Health approach bringing together governments, vaccine producers, researchers, non-governmental organizations and development partners to end human deaths from dog-mediated rabies.

⁹⁷ Nadal D, Abela-Ridder B, Beeching S, Cleaveland S, Cronin K, Steenson R and Hampson K (2022). The Impact of the First Year of the COVID-19 Pandemic on Canine Rabies Control Efforts: A Mixed-Methods Study of Observations About the Present and Lessons for the Future. Front Trop Dis 3:866811.doi: 10.3389/fitd.2022.866811.

Additionally, global veterinary workforce capacity and global veterinary supply chain shortages that have led to delayed or disrupted care for dogs (and other pets) have been exacerbated by the COVID-19 pandemic. The lack of veterinarians, veterinary technicians, and other animal care staff who are available to provide care for dogs prior to travel, combined with a lack of veterinary supplies such as drugs and vaccines, increase the likelihood dogs imported into the United States may pose a public health threat. 98 99 100 101 Challenges with rabies vaccine administration, distribution, potency, quality, and storage in many countries also contributed to inadequate protection against rabies prior to the pandemic; these challenges continue as public health infrastructure recovers post-pandemic.102 103 104 105 The extension of the temporary suspension is intended to provide time for CDC and its partners to build a robust dog importation system that better protects U.S. public health from these challenges.

⁹⁸ Zhang S. The great veterinary shortage. The Atlantic. July 6,2022. https://www.theatlantic.com/health/archive/2022/07/not-enough-veterinarians-animals/661497/.

⁹⁹ Martin D. Is the veterinarian shortage real or regional? AGCanada.com July 16, 2021. https://www.agcanada.com/2021/07/is-the-veterinarian-shortage-real-or-regional.

¹⁰⁰ The Business Research Company. Companion animal veterinary vaccines global market report 2023 (. . .). https://www.thebusinessresearchcompany.com/report/companion-animal-veterinary-vaccines-global-market-report.

¹⁰¹ Lewin R. Aussie dog owners warned of national vaccine shortage as deadly bacterial disease spreads. 7 News.com.au. October 17,2022. https://7news.com.au/lifestyle/pets/aussie-dog-owners-warned-of-national-vaccine-shortage-as-deadly-bacterial-disease-spreads-c-8568550.

¹⁰² Hu RL, Fooks AR, Zhang SF, Liu Y, Zhang F. Inferior rabies vaccine quality and low immunization coverage in dogs in China. Epidemiol Infect. 2008; 136: 1556-63.

¹⁰³ Yale G, Sudarshan S, Taj S, Patchimuthu GI, Mangalanathan BV, et al. Investigation of protective level of rabies antibodies in vaccinated dogs in Chennai, India. VetRecord. 2021; 8: e8.

¹⁰⁴ Whitehill F, Bonaparte S, Hartloge C, et al. Rabies in a Dog Imported from Azerbaijan- Pennsylvania, 2021. MMWR Morb Mortal Wkly Rep 2022; 71: 686-689.

¹⁰⁵ Rota Modari E, Alonso S, Mancin M, De Nardi M, Hudson-Cooke S, Veggiato C, et al. Rabies vaccination: higher failure rates in imported dogs than those vaccinated in Italy. Zoonoses and Public Health 2022; 64 (2): 146-55.

C. Potentially Unsafe Conditions for Dogs Arriving From DMRVV High-Risk Countries Without Appropriate Rabies Vaccination Certificates

Prior to the implementation of the temporary suspension of the importation of dogs from countries at high-risk for rabies in July 2021, dogs arriving from DMRVV high-risk countries without appropriate rabies vaccination certificates were denied entry to the United States and returned to the country of origin on the next available flight.¹⁰⁶ Airlines were required to house dogs awaiting return to their country of origin at a facility meeting the USDA's Animal Welfare Act standards, preferably a live animal care facility with an active custodial bond and a FIRMS code issued by CBP. If a live animal care facility with a CBP-issued FIRMS code was not available, the airline was required to, at a minimum, provide accommodation meeting the USDA's Animal Welfare Act standards.¹⁰⁷

¹⁰⁶ Centers for Disease Control and Prevention (2019). Guidance Regarding Agency Interpretation of “Rabies-Free” as It Relates to the Importation of Dogs Into the United States. Federal Register, Vol. 84,724-730. Retrieved from https://www.federalregister.gov/documents/2019/01/31/2019-00506/guidance-regarding-agency-interpretation-of-rabies-free-as-it-relates-to-the-importation-of-dogs.

¹⁰⁷ U.S. Department of Agriculture (2020). Animal Welfare Regulations; Part 3, Subpart A: Transportation Standards. Sections 3.14-3.20. Retrieved from https://www.aphis.usda.gov/animal_welfare/downloads/AC_BlueBook_AWA_508_comp_version.pdf.

However, due to the prolonged periods of time between flights, some airlines housed dogs in cargo warehouses. These accommodations created an unsafe environment for dogs because of inadequate cooling and heating, poor cleaning and sanitization of crates, and inability to physically separate the animals from areas of the warehouse where other equipment, machinery, and goods are used and stored. Cargo warehouse staff who are not trained to house, clean, and care for live animals with appropriate personal protective equipment were at risk of bites, scratches, and exposures to potentially infectious bodily fluids from dogs left in cargo warehouses.

Because of the COVID-19 pandemic, there were fewer international flights worldwide in 2020,108 109 resulting in delayed returns for dogs denied entry. In August 2020, a dog denied entry based on falsified rabies vaccination certificates later died while in the custody of an airline at Chicago O'Hare International Airport. Despite CDC's request to find appropriate housing at a local kennel or veterinary clinic, the airline left the dog, along with 17 other dogs, in a cargo warehouse without food and water for more than 48 hours.¹¹⁰

¹⁰⁸ Josephs, L. (2020). American Airlines cutting international summer schedule by 60% as coronavirus drives down demand. CNBC. Retrieved from https://www.cnbc.com/2020/04/02/coronavirus-update-american-airlines-cuts-summer-international-flights-by-60percent-as-demand-suffers.html.

¹⁰⁹ American Airlines (2020). American Airlines announces additional schedule changes in response to customer demand related to COVID-19. American Airlines Newsroom. Retrieved from https://news.aa.com/news/news-details/2020/American-Airlines-Announces-Additional-Schedule-Changes-in-Response-to-Customer-Demand-Related-to-COVID-19-031420-OPS-DIS-03/default.aspx.

¹¹⁰ CBS Broadcasting (2020). Dog dies at O'Hare Airport warehouse, 17 others saved after being left without food or water for 3 days. CBS Chicago. Retrieved from https://www.cbsnews.com/chicago/news/dog-dies-at-ohare-airport-warehouse-17-others-saved-after-being-left-without-food-or-water-for-3-days.

While costs associated with housing, caring for, and returning dogs are the responsibility of the importer (or airline if the importer abandons the dog), some importers and airlines are reluctant to pay these costs, requiring the U.S. Government to find appropriate interim housing facilities and veterinary care. The cost for housing, care, and returning improperly vaccinated dogs ranges between $1,000 and $4,000 per dog, depending on the location and time required until the next available return flight. Because there is no reimbursement system in place, and seeking reimbursement is administratively challenging, the U.S. Government is left to bear these costs when airlines and importers do not. From May through December 2020, CDC spent more than 3,000 personnel-hours at an estimated cost of $270,000 to respond to the attempted importation of unvaccinated or inadequately vaccinated dogs from DMRVV high-risk countries. The time spent represented a substantial increase from previous years due to (1) the increase in dogs with inadequate documentation; and (2) the additional time spent identifying interim accommodations for the dogs because of the reduced outbound international flight schedules due to the pandemic.

During 2020, CDC observed a 52 percent increase (from an average of 300 to 450) in the number of dogs found to be ineligible for entry compared to 2018 and 2019.¹¹¹ The trend continued in the first half of 2021 when there was a 24 percent increase (from 450 to 560) in the number of dogs ineligible for entry compared to the whole of 2020.¹¹² From January 1, 2021, to July 13, 2021, prior to CDC's temporary suspension taking effect, there were 16 sick dogs and 18 dead dogs reported to CDC upon arrival in the United States. From July 14, 2021, when the temporary suspension was initially implemented, to March 1, 2023, CDC has denied entry to 185 dogs, and 12 sick dogs and 34 deaths have been reported to CDC. This substantial decrease in the number of dogs denied entry (average of 93 dogs/month pre-suspension compared to 8 dogs/month during the suspension) since the implementation of the temporary suspension and reduced number of sick and dead dogs (average of 3 sick dogs/month pre-suspension compared to 0.6 sick dogs/month during the suspension; 3 dead dogs/month compared to 1.6 dead dogs/month during the suspension) arriving in the United States has resulted in an estimated $46,000 to $154,000 in cost savings to importers and $2,400 to $120,000 in cost savings to Federal, state, and local public health and animal health agencies when comparing the two periods. The risk of dogs dying while being held in unsafe conditions continues however and, in the absence of a return to pre-pandemic global vaccination campaigns and public health resources, would likely be exacerbated if the temporary suspension were to be lifted at this time. For example, in March 2023, a dog arrived at a port of entry without a CDC-approved animal care facility and was housed by the airline in a cargo warehouse where it was later found dead.

¹¹¹ Pieracci, E., Williams, C., Wallace, R., Kalapura, C., Brown, C. U.S. dog importations during the COVID-19 pandemic: Do we have an erupting problem? PLoS ONE,16(9), e0254287. doi: 10.1371/journal.pone.0254287.

¹¹² Centers for Disease Control and Prevention. Quarantine Activity Reporting System (version 4.9.8.8.2.2A). Dog Importation data, January 1, 2021-July 14, 2021. Accessed: 04 January 2022.

Since the temporary suspension initially took effect in mid-July 2021, the number of dogs denied entry and the number of sick and dead dogs has decreased substantially despite the increased communicable disease risk due to pandemic-related disruptions to vaccination programs in DMRVV high-risk countries and veterinary supply chain and staffing shortages worldwide. These data constitute strong evidence that the suspension has been effective at preventing the importation of dogs that present a communicable disease risk that would otherwise require significant U.S. resources to address. Prior to the temporary suspension, an increasing number of dogs were denied entry into the United States in 2020 and 2021, and there were fewer international flights in 2020 and 2021 compared to 2022.¹¹³ If the increased number of international flights in 2023 corresponds with numbers of dogs denied entry per flight in 2020 and 2021, then lifting the temporary suspension at this time, absent other public health measures, could result in a number of dogs denied entry equal to or greater than pre-suspension numbers. A concomitant increase in the number of sick, dead, or inadequately vaccinated dogs arriving in the United States could quickly overwhelm local public health and veterinary healthcare systems which do not have resources to provide long-term care or quarantine for imported dogs.

¹¹³ U.S. Bureau of Transportation Statistics. (2022) August 2022 U.S. Airline Traffic Data. https://www.bts.gov/newsroom/august-2022-us-airline-traffic-data.

Because there remains an elevated level of risk of a rabid dog being imported into the United States and responding to imports of potentially rabid dogs or dogs with other communicable illnesses of public health concern requires significant veterinary and public health resources, lifting the temporary suspension would be unwarranted at this time.

Instead, CDC is extending the temporary suspension for dogs arriving into the United States from DMRVV high-risk countries. Given that temporary suspension has proven successful in preventing the reintroduction of DMRVV into the United States and has resulted in a decrease in the number of issues with imported dogs (i.e., suspected fraudulent documentation, dogs abandoned by importers, sick and dead dogs arriving in the United States) compared to the period prior to the temporary suspension, maintaining the current requirements for dog importation should not result in an increased need for veterinary and public health resources to address dog importation issues. As noted above, in a companion document published elsewhere in this Federal Register, CDC is proposing a rule revising entry requirements that outlines a framework and set of operations that would mitigate the need for further extensions of the temporary suspension, should these procedures be adopted.

III. Conditions for Entry of U.S.-Vaccinated Dogs During the Extension

CDC is extending without modification the terms of the current temporary suspension, which was effective February 1, 2023. Dogs returning to the United States from DMRVV high-risk countries with a valid U.S.-issued rabies vaccination certificate will be allowed to enter the United States without a CDC Dog Import Permit, if the dog:

• Is six-months of age or older;

• Has an International Standards Organization (ISO)-compatible microchip;

• Arrives at one of 18 CDC-approved ports of entry with CDC-staffed quarantine stations; and

• Has a valid U.S. rabies vaccination certificate documenting that the dog was vaccinated against rabies by a U.S.-licensed veterinarian in the United States on or after the date the dog was 12 weeks (84 days) of age and at least four weeks (28 days) before the date of arrival in the United States if it was the dog's first rabies vaccine. The rabies vaccination certificate must include:

○ Name and address of owner;

○ Breed, sex, date of birth (approximate age if date of birth unknown), color, markings, and other identifying information for the dog;

○ Microchip number;

○ Date of rabies vaccination and date next vaccine is due (i.e., date the vaccination expires);

○ Vaccine manufacturer, product name, lot number, and product expiration date; and

○ Name, license number, address, and signature of veterinarian who administered the vaccination.

U.S. veterinarians, at their option, may choose to include the above information on the CDC Rabies Vaccination and Microchip Record ¹¹⁴ for U.S.-vaccinated dogs prior to traveling outside the United States, but completion of the form is not required for a U.S.-vaccinated dog's re-entry into the United States if all other necessary information has been provided.

¹¹⁴ (OMB No. 0920-1383); the form is available for download online at: www.cdc.gov/dogpermit.

U.S.-vaccinated dogs with expired U.S. rabies vaccination certificates must meet the requirements for foreign-vaccinated dogs after being revaccinated prior to U.S. entry.

There is no limit on the number of U.S.-vaccinated dogs with valid U.S.-issued rabies vaccination certificates that an importer can import.

These requirements are consistent with CDC's practices as of December 1, 2021 and are a continuation of the terms of the extended temporary suspension announced in the January 27, 2023 Federal Register notice.¹¹⁵

¹¹⁵ 88 FR 5348 (Jan. 27, 2023), effective February 1, 2023.

IV. Conditions for Entry of Foreign-Vaccinated Dogs With a CDC Dog Import Permit During the Extension

CDC is continuing to require foreign-vaccinated dogs to meet the terms of the temporary suspension published in the January 27, 2023 Federal Register notice.¹¹⁶ Importers of personal pet dogs may receive up to two CDC Dog Import Permits (i.e., permits for two dogs) during the temporary suspension period.¹¹⁷ Commercial importers and personal pet owners who do not have serologic titer results or CDC Dog Import Permits for their dogs will also continue to have an alternate pathway for importation as outlined in Section V.

¹¹⁶ Id.

¹¹⁷ The two-permit limit is for the effective date of this notice from August 1, 2023-July 31,2024.

All importers of personal pet dogs (defined for the purpose of this notice as owners or importers who are not importing for the purpose of resale, rescue, or adoption and who are attempting to import fewer than three dogs total between August 1, 2023-July 31, 2024) from DMRVV high-risk countries are eligible to apply for a CDC Dog Import Permit. Commercial dog importers (defined for the purpose of this notice as importing three or more dogs during the suspension or those being imported for resale, rescue, or adoption) are not eligible to apply for a CDC Dog Import Permit and their dogs must meet the alternate pathway requirements for entry outlined in Section V below.

Foreign-vaccinated dogs arriving from DMRVV high-risk countries with a valid CDC Dog Import Permit will be allowed to enter the United States if the dogs:

• Are six-months of age or older (photographs of the dog's teeth are required for age verification);

• Have an ISO-compatible microchip;

• Have a CDC Rabies Vaccination and Microchip Record ¹¹⁸ completed by the veterinarian who administered the rabies vaccine. The record must state that the vaccine was administered on or after the date the dog was 12 weeks (84 days) of age. The record must be in English;

¹¹⁸ Approved under OMB Control Number 0920-1383 Importation Regulations (42 CFR 71 subpart F) (exp. 1/31/2026, or as revised).

• Have serologic evidence of rabies vaccination (titer) from an approved rabies serology laboratory ¹¹⁹ (serologic titer results ≥0.5 IU/mL are required) with the sample collected at least 45 days prior to entry and no greater than 365 days before entry; and

¹¹⁹ Centers for Disease Control and Prevention (2022). Approved Rabies Serology Laboratories for Testing Dogs. Retrieved from https://www.cdc.gov/importation/bringing-an-animal-into-the-united-states/approved-labs.html.

• Arrive at one of the 18 CDC-approved ports of entry with CDC-staffed quarantine stations.

To apply for a CDC Dog Import Permit, importers whose dogs meet the entry requirements listed above must submit the Application for Special Exemption for a Permitted Dog Import.¹²⁰

¹²⁰ Approved under OMB Control Number 0920-1383 Importation Regulations (42 CFR 71 Subpart F) (exp. 1/31/2026, or as revised). The permit application is available online at www.cdc.gov/dogpermit.

The importer's application, with all supporting documentation, must be submitted at least 30 business days (i.e., excluding weekends and U.S. Federal holidays) before the date on which the dog will enter the United States. Importers may submit an application electronically at www.cdc.gov/dogpermit. An application cannot be made at the port of entry upon the dogs' arrival in the United States. Dogs that arrive without a CDC Dog Import Permit will be returned to their country of departure on the next available flight or if the dog meets the requirements outlined in Section V, the dog may be quarantined at the importer's expense at a CDC-approved animal care facility (if one is located at the port of entry where the dog arrived) pending availability and payment of all associated examination, revaccination, and quarantine fees upfront.

Within 10 days of arrival, foreign-vaccinated dogs with a CDC Dog Import Permit must receive a USDA-licensed rabies booster vaccination administered by a U.S. veterinarian.

V. Conditions for Entry of Foreign-Vaccinated Dogs Without a CDC Dog Import Permit During the Extension

CDC is continuing the requirements of the temporary suspension published in the January 27, 2023, Federal Register notice ¹²¹ that provide an alternate pathway for importers of personally owned pets who do not have a CDC Dog Import Permit and for commercial dog importers to import dogs. While importers of commercial shipments of dogs cannot apply for a CDC Dog Import Permit, a separate entry process, as outlined below, has been established. All commercial dog importers from DMRVV high-risk countries may import dogs provided that the dogs, upon entering the United States, are examined, revaccinated, and have proof of an adequate titer from a CDC-approved laboratory upon arrival or are held in quarantine at a CDC-approved animal care facility until they meet CDC entry requirements. Importers of personally owned pets may also choose to use this pathway in lieu of obtaining a CDC Dog Import Permit.

¹²¹ 88 FR 5348 (Jan. 27, 2023), effective February 1, 2023.

Foreign-vaccinated dogs without a valid CDC Dog Import Permit must meet all of the following requirements:

• Dogs must enter at a port of entry with a CDC-approved animal care facility; ¹²²

¹²² Centers for Disease Control and Prevention (2022). Bringing a dog into the United States. Retrieved from www.cdc.gov/dogtravel.

• Dogs must be six months of age or older at the time of entry;

• Dogs must have an ISO-compatible microchip; and

• Dogs must have a CDC Rabies Vaccination and Microchip Record ¹²³ completed by the veterinarian who administered the rabies vaccine. The record must be complete and state that the vaccine was administered on or after the date the dog was 12 weeks (84 days) of age. The record must be in English;

¹²³ Approved under OMB Control Number 0920-1383 Importation Regulations (42 CFR 71 Subpart F) (exp. 1/31/2026, or as revised).

• Importers must provide all required entry documents (CDC Rabies Vaccination and Microchip Record, serologic titer results if available, photos of dogs' teeth) to the CDC-approved animal care facility at least 10 days before the dogs' arrival;

• Importers must arrange for an examination date and time and reserve space with a CDC-approved animal care facility;

• Importers must arrange for transportation by a CBP-bonded transporter (i.e., provided by the airline carrier or a CDC-approved animal care facility) to a CDC-approved animal care facility immediately upon the dogs' arrival to the United States; and

• Dogs must undergo veterinary examination and revaccination against rabies at a CDC-approved animal care facility upon arrival at the importer's expense.

Dogs must also be held at the CDC-approved animal care facility until the following entry requirements are completed:

• Veterinary health examination by a USDA-accredited veterinarian for signs of illness, including zoonotic or foreign animal diseases. Suspected or confirmed zoonotic or foreign animal diseases must be reported to CDC, USDA, the state or territorial public health veterinarian, and the state or territorial veterinarian;

• The CDC-approved animal care facility must report all signs of illness or parasitism to CDC and may not release the dog without the written approval of CDC;

• Vaccination against rabies with a USDA-licensed rabies vaccine and administered by a USDA-accredited veterinarian;

• Confirmation of microchip number;

• Confirmation of age through dental examination by a USDA-accredited veterinarian; and

• Verification of adequate rabies titer from a CDC-approved laboratory.¹²⁴ Serologic titer results of ≥0.5IU/mL are required from a CDC-approved laboratory, with the sample collected at least 45 days prior to entry and no greater than 365 days before entry. Dogs that arrive without documentation of an adequate rabies titer from an approved laboratory must be housed at the CDC-approved animal care facility for a 28-day quarantine at the expense of the importer following administration of the U.S. rabies vaccine in addition to meeting the criteria listed above. Dogs cannot be released from quarantine unless all requirements have been met.

¹²⁴ Approved laboratories can be found at: www.cdc.gov/importation/bringing-an-animal-into-the-united-states/approved-labs.html.

Importers are responsible for all fees associated with the importation of dogs into the United States, including transportation, examination, revaccination, and quarantine fees.

Foreign-vaccinated dogs arriving without a CDC Dog Import Permit must enter the United States through a CDC-approved port of entry with a CDC-approved animal care facility. As of May 1, 2023, these facilities are located at: Atlanta Hartsfield-Jackson International Airport, John F. Kennedy International Airport (New York), Los Angeles International Airport, Miami International Airport, and Washington Dulles International Airport (outside Washington, DC). Importers are responsible for reserving examination times and space at the CDC-approved animal care facility prior to arrival in the United States. Dogs that arrive at unapproved ports of entry or without reservations at a CDC-approved animal care facility will be denied entry and returned to the country of departure.

VI. Continued Conditions for All Dogs From DMRVV High-Risk Countries During the Extension

Consistent with the terms of the original temporary suspension published in the June 16, 2021, Federal Register notice,¹²⁵ all dogs arriving from DMRVV high-risk countries must be microchipped prior to arrival in the United States. The microchip can be administered in any country and does not need to be a U.S.-issued microchip. The microchip number must be listed on the CDC Rabies Vaccination and Microchip Record or U.S.-issued rabies vaccination certificate. The microchip must be ISO-compatible.

¹²⁵ 86 FR 32041 (June 16, 2021), effective July 14, 2021.

Any dog from a DMRVV high-risk country not otherwise meeting the requirements outlined in Sections III-V above will be excluded from entering the United States and returned to its country of departure on the next available flight, regardless of carrier or route, if the dog arrives under any of the following circumstances:

• A dog arrives in the United States and does not meet the minimum pre-arrival requirements (i.e., age greater than six months, microchip, and either valid U.S.-issued rabies vaccination certificate or complete and accurate CDC Rabies Vaccination and Microchip Record);

• A dog presented does not match the description of the animal listed on the permit (if required), U.S. rabies vaccination certificate, or CDC Rabies Vaccination and Microchip Record;

• A dog arrives at an unapproved port of entry;

• A dog arrives at an airport with a CDC-approved animal care facility without a reservation and no space at the facility is available; or

• Importer refuses transportation to, or receipt of, or payment for services at, a CDC-approved animal care facility (if required). CDC may consider the dog abandoned and transfer custody of the dog to the airline carrier for final disposition.

The importer shall be financially responsible for all housing, care, and return costs. If an importer abandons a dog while it is at a CDC-approved animal care facility, the carrier shall become responsible for all costs associated with the care, housing, and return of the dog to the country of departure. In keeping with current practice, importers should continue to check with Federal, state, and local government officials regarding additional requirements of the final destination prior to entry or re-entry into the United States.

VII. Additional Determinations Relating to This Notice

Pursuant to the terms of this notice, CDC is extending the temporary suspension for the importation of dogs from DMRVV high-risk countries. This suspension includes dogs originating in DMRVV low-risk or DMRVV-free countries that have been in a DMRVV high-risk country in the previous six months (not including animals transiting through DMRVV high-risk countries).

To enter the United States, dogs imported from a DMRVV high-risk country must meet certain entry requirements as described in Sections III through V of this notice.

Table 1—Entry Conditions for Dogs Under Extended Temporary Suspension
Dogs with valid U.S. rabies vaccination certificate (RVC) | Dogs with valid CDC Dog ImportPermit (fewer than three dogs being imported with titer) | Dogs with valid CDC Rabies Vaccination and Microchip Record without titer | Dogs with valid CDC Rabies Vaccination and Microchip Record with titer
At least six months of age | At least six months of age | At least six months of age | At least six months of age.
Microchip | Microchip | Microchip | Microchip.
Entry allowed at 18 ports of entry with CDC quarantine station | Entry allowed at 18 ports of entry with CDC quarantine station with valid CDC Dog Import Permit issued prior to arrival | Entry allowed at five ports of entry with CDC-approved animal care facility | Entry allowed at five ports of entry with CDC-approved animal care facility.
Titer not needed | Serologic titer (≥0.5 IU/mL) from a CDC-approved laboratory. Titer drawn at least 45 days before entry and not more than 365 days before entry | Not applicable * | Serologic titer (≥0.5 IU/mL) from a CDC-approved laboratory. Titer drawn at least 45 days before entry and not more than 365 days before entry.
No quarantine | No quarantine | 28-day quarantine at CDC-approved animal care facility | No quarantine.
Veterinary exam, booster vaccination or quarantine not required unless the animal appears ill upon arrival | Veterinary exam or quarantine not required with valid CDC Dog Import Permit unless the animal appears ill upon arrival. Booster vaccination is required within 10 days of arrival by U.S. veterinarian | Veterinary examination, booster vaccination, and paperwork verification at CDC-approved animal care facility required upon arrival | Veterinary examination, booster vaccination, and paperwork verification at CDC-approved animal care facility required upon arrival.
* This is an alternate pathway for importation in the event documentation of an adequate titer is not available upon arrival.

The temporary suspension will continue to reduce the risk of importation of DMRVV and ensure public health safeguards are in place for the importation of dogs from DMRVV high-risk countries. The terms of the temporary suspension allow for sufficient safeguards to mitigate the public health risk. The temporary suspension will also allow CDC to continue to work with Federal partners and the animal transportation industry to implement more streamlined processes for verification of vaccination records prior to travel. The proposed rule issued as a companion document published elsewhere in this Federal Register reflects these streamlined processes. CDC will also continue to identify additional animal care facilities for the safe housing of animals arriving at ports of entry. Most importantly, it will ensure that U.S. public health remains protected.

Therefore, pursuant to 42 CFR 71.51and 42 CFR 71.63, CDC hereby excludes the entry and suspends (subject to the terms and conditions outlined in this notice) the importation of dogs from DMRVV high-risk countries, including dogs from DMRVV low-risk and DMRVV-free countries if the dogs have been present in a DMRVV high-risk country in the previous six months.

Additionally, under 42 CFR 71.63, CDC continues to find that DMRVV exists in countries designated as DMRVV high-risk countries and that, if reintroduced into the United States, DMRVV would threaten the public health of the United States. The continued entry of dogs from DMRVV high-risk countries in the context of rabies vaccination campaign disruptions and veterinary supply and veterinary workforce shortages as a result of the COVID-19 pandemic, as well as the insufficient safeguards in place to prevent the exportation of inadequately vaccinated dogs from DMRVV high-risk countries, further increases the risk that DMRVV may be introduced, transmitted, or spread into the United States. CDC has coordinated in advance with other Federal agencies as necessary to implement and enforce this notice.

CDC further clarifies through this notice that there is no agency policy of using the “least restrictive means” (as that concept is typically understood and applied in cases involving interests protected by the U.S. Constitution) in regard to animal importations under 42 CFR part 71. “The Due Process Clause of the Fourteenth Amendment imposes procedural constraints on governmental decisions that deprive individuals of liberty or property interests.” Nozzi v. Hous. Auth. Of City of Los Angeles, 806 F.3d 1178, 1190 (9th Cir. 2015). However, “[d]ue process protections extend only to deprivations of protected interests.” Shinault v. Hawks, 782 F.3d 1053, 1057 (9th Cir. 2015). Because individuals have no protected property or liberty interest in importing dogs into the United States, it is CDC's policy to not employ a constitutional analysis of “least restrictive means” in regard to animal imports under 42 CFR part 71. See Ganadera Ind. v. Block, 727 F.2d 1156, 1160 (D.C. Cir. 1984) (“no constitutionally-protected right to import into the United States”); see also Arjay Assoc. v. Bush, 891 F.2d. 894, 896 (Fed. Cir. 1989) (“It is beyond cavil that no one has a constitutional right to conduct foreign commerce in products excluded by Congress.”).

Notwithstanding, to the extent that any court determines that an analysis of “least restrictive means” is necessary, CDC finds and asserts that the measures contained in this notice constitute the least restrictive means of protecting the public's health from the reintroduction of DMRVV. Although a complete ban on all dog imports would arguably provide a greater level of public health protection, it would deprive individuals of the many benefits arising from dog imports including the companionship offered by pet dogs. Similarly, removing all restrictions at this time (as has been explained in this notice) would endanger the public's health and risk the reintroduction of DMRVV based on, among other things, the high volume of imported dogs contemporaneous with insufficient veterinary controls in DMRVV high-risk countries to prevent the export of inadequately vaccinated dogs as well as inadequate veterinary supply chains and persistent workforce capacity shortages in DMRVV high-risk countries that export dogs to the United States. Accordingly, in establishing the terms and conditions of this notice, CDC has carefully balanced the need to protect the public's health against the potential burden on importers and determined that the measures in this notice constitute the least restrictive means.

This notice is not a legislative rule within the meaning of the Administrative Procedure Act (APA), but rather a notice of an exclusion and temporary suspension taken under the existing authority of 42 CFR 71.51(e) and 42 CFR 71.63, which were previously promulgated with full notice and comment. If this notice qualifies as a legislative rule under the APA, notice and comment and a delay in effective date are not required because there is good cause to dispense with prior public notice and the opportunity to comment on this notice. Considering the high volume of imported dogs contemporaneous with insufficient veterinary controls in DMRVV high-risk countries to prevent the export of inadequately vaccinated dogs, inadequate veterinary supply chains, and persistent workforce capacity shortages in DMRVV high-risk countries that export dogs to the United States, it would be impractical and contrary to the public's health, and by extension the public's interest, to delay the issuance and effective date of this notice. Notwithstanding, CDC is publishing this notice in advance of its effective date, to assure potential dog importers and other interested parties that the terms of the temporary suspension have not changed, and therefore does not require changes to their current operations and will remain in effect through July 31, 2024.

CDC has further determined that good cause exists for a one-year extension of the temporary suspension through July 31, 2024, to address public health concerns regarding importation of dogs infected with rabies. Moreover, in parallel to this notice announcing the extension of the temporary suspension, CDC is proposing a rule revising entry requirements to address these concerns regarding importation of rabid dogs and fraudulent vaccination documentation. The proposed rule outlines a framework and set of operations that would mitigate the need for further extensions of the temporary suspension, should these procedures be adopted. In consideration of both the anticipated needs for global rabies vaccine campaigns to return to pre-pandemic levels and to avoid disruption to importers' and the travel industry's operations, CDC has determined that a one-year extension of the temporary suspension through July 31, 2024, is required to protect the public's health and is therefore in the public's interest. In the absence of further extension of the temporary suspension, dog importation requirements would return to procedures that proved inadequate to prevent the import of rabid dogs into the United States. A one-year extension provides time for CDC to continue to build a robust dog importation system while global rabies vaccination efforts continue to rebound. It will also avoid potential public confusion regarding changing dog importation requirements and better address the needs of importers, the animal care and transport industry, and Federal partners who have indicated they would need time to adequately prepare for any changes to their current operations. The proposed rule published in parallel with this extension provides an opportunity for public comment and input on any new procedures.

This temporary suspension will enter into effect on August 1, 2023, and remain in effect through July 31, 2024, unless modified or rescinded by the CDC Director based on public health or other considerations.

Kathryn Wolff,
Chief of Staff, Centers for Disease Control and Prevention.

[FR Doc. 2023-14342 Filed 7-6-23; 4:15 pm]

BILLING CODE 4163-18-P